DEPARTMENT OF ENERGY

Federal Energy Regulatory Commission

Combined Notice of Filings #1

Take notice that the Commission received the following Complaints and Compliance filings in EL Dockets:

Docket Numbers: EL21-38-000.

Applicants: City Water, Light & Power-City of Springfield, IL.

Description: Supplement to December 31, 2020 Proposed Revenue Requirement for Reactive Supply Service under Midcontinent Independent Transmission System Operator, Inc. Tariff Schedule 2 of City Water, Light and Power of the City of Springfield, Illinois.

Filed Date: 4/8/22.

Accession Number: 20220408-5292.

Comment Date: 5 p.m. ET 4/29/22.

Take notice that the Commission received the following electric rate filings:

Docket Numbers: ER21-1002-001.

Applicants: Tri-State Generation and Transmission Association, Inc.

Description: Compliance filing: Compliance Filing Western Energy Imbalance Market to be effective 4/1/2021.

Filed Date: 4/13/22.

Accession Number: 20220413-5113.

Comment Date: 5 p.m. ET 5/4/22.

Docket Numbers: ER22-1618-000.

Applicants: PJM Interconnection, L.L.C.

Description: Tariff Amendment: Notice of Cancellation of CSA, SA No. 5211; Queue No. AB2-134 to be effective 3/14/2022.

Filed Date: 4/13/22.

Accession Number: 20220413-5041.

Comment Date: 5 p.m. ET 5/4/22.

Docket Numbers: ER22-1619-000.

Applicants: Lanyard Power Holdings, LLC.

Description: § 205(d) Rate Filing: Proposed Revisions to Reactive Rate Schedule_Requests for Limited Tariff Waiver to be effective 6/1/2022.

Filed Date: 4/13/22.

Accession Number: 20220413-5057.

Comment Date: 5 p.m. ET 5/4/22.

Docket Numbers: ER22-1620-000.

Applicants: Morgantown Station, LLC.

Description: § 205(d) Rate Filing: Proposed Revisions to Reactive Rate Schedule_Request for Limited Tariff Waiver to be effective 12/31/9998.

Filed Date: 4/13/22.

Accession Number: 20220413-5058.

Comment Date: 5 p.m. ET 5/4/22.

Docket Numbers: ER22-1621-000.

Applicants: Tri-State Generation and Transmission Association, Inc.

Description: Tariff Amendment: Notice of Cancellation of Service Agreement No. 888 to be effective 3/14/2022.

Filed Date: 4/13/22.

Accession Number: 20220413-5066.

Comment Date: 5 p.m. ET 5/4/22.

Docket Numbers: ER22-1622-000.

Applicants: Tri-State Generation and Transmission Association, Inc.

Description: Tariff Amendment: Notice of Cancellation of Rate Schedule FERC No. 279 to be effective 6/13/2022.

Filed Date: 4/13/22.

Accession Number: 20220413-5070.

Comment Date: 5 p.m. ET 5/4/22.

Docket Numbers: ER22-1623-000.

Applicants: Hallador Power Company, LLC.

Description: Baseline eTariff Filing: Baseline new reactive tariff to be effective 12/31/9998.

Filed Date: 4/13/22.

Accession Number: 20220413-5074.

Comment Date: 5 p.m. ET 5/4/22.

Docket Numbers: ER22-1624-000.

Applicants: Midcontinent Independent System Operator, Inc.

Description: Compliance filing: 2022-04-13_Schedule 29 and 29A Waiver to be effective N/A.

Filed Date: 4/13/22.

Accession Number: 20220413-5075.

Comment Date: 5 p.m. ET 5/4/22.

Docket Numbers: ER22-1625-000.

Applicants: Midcontinent Independent System Operator, Inc.

Description: § 205(d) Rate Filing: 2022-04-13_SA 1495 NSP-Walleye Wind 2nd Rev GIA (G253 J569) to be effective 4/7/2022.

Filed Date: 4/13/22.

Accession Number: 20220413-5111.

Comment Date: 5 p.m. ET 5/4/22.

Docket Numbers: ER22-1626-000.

Applicants: Southern California Edison Company.

Description: § 205(d) Rate Filing: E&P LA Desert Sunlight PV TOT198-TOT199 (SA282) to be effective 4/14/2022.

Filed Date: 4/13/22.

Accession Number: 20220413-5119.

Comment Date: 5 p.m. ET 5/4/22.

Docket Numbers: ER22-1627-000.

Applicants: AM Wind Repower LLC.

Description: Baseline eTariff Filing: Market-Based Rate Application to be effective 6/13/2022.

Filed Date: 4/13/22.

Accession Number: 20220413-5120.

Comment Date: 5 p.m. ET 5/4/22.

Docket Numbers: ER22-1628-000.

Applicants: PacifiCorp.

Description: § 205(d) Rate Filing: Lucky Star Construction Agreement to be effective 4/14/2022.

Filed Date: 4/13/22.

Accession Number: 20220413-5136.

Comment Date: 5 p.m. ET 5/4/22.

Docket Numbers: ER22-1629-000.

Applicants: R-WS Antelope Valley Gen-Tie, LLC.

Description: § 205(d) Rate Filing: Assignment and Assumptions of Co-Tenancy Interest in Shared Facilities to be effective 4/14/2022.

Filed Date: 4/13/22.

Accession Number: 20220413-5137.

Comment Date: 5 p.m. ET 5/4/22.

Docket Numbers: ER22-1630-000.

Applicants: Rabbitbrush Solar, LLC.

Description: § 205(d) Rate Filing: Certificates of Concurrence for Shared Facilities Common Ownership Agreements to be effective 4/14/2022.

Filed Date: 4/13/22.

Accession Number: 20220413-5147.

Comment Date: 5 p.m. ET 5/4/22.

Docket Numbers: ER22-1631-000.

Applicants: PJM Interconnection, L.L.C.

Description: § 205(d) Rate Filing: Original ISA, Service Agreement No. 6393; AE2-217 to be effective 3/14/2022.

Filed Date: 4/13/22.

Accession Number: 20220413-5171.

Comment Date: 5 p.m. ET 5/4/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

Dated: April 13, 2022.
Debbie-Anne A. Reese,
Deputy Secretary.

[FR Doc. 2022-08364 Filed 4-19-22; 8:45 am]

BILLING CODE 6717-01-P